DEPARTMENT OF HEALTH AND HUMAN SERVICES

Administration on Aging

2005 White House Conference on Aging

AGENCY: Administration on Aging, HHS.

ACTION: Notice of conference call.

SUMMARY: Pursuant to Section 10(a) of the Federal Advisory Committee Act as amended (5 U.S.C. Appendix 2), notice is hereby given that the Policy Committee of the 2005 White House Conference on Aging will discuss items related to the final report of the Conference during a conference call. The conference call will be open to the public to listen, with call-ins limited to the number of telephone lines available. Individuals who plan to call in and need special assistance, such as TTY, should inform the contact person listed below in advance of the conference call. This notice is being published less than 15 days prior to the conference call due to scheduling problems.

DATES: The conference call will be held on Wednesday, June 14, 2006, at 11 a.m., Eastern Standard Time.

ADDRESSES: The conference call may be accessed by dialing, U.S. toll-free, 1-800-369-3181, passcode: 2108199, call leader: Nora Andrews, on the date and time indicated above.

FOR FURTHER INFORMATION CONTACT: Nora Andrews, (202) 357-3463, or e-mail at Nora.Andrews@hhs.gov. Registration is not required. Call in is on a first come, first-served basis.

Dated: June 13, 2006.
Edwin L. Walker,
Deputy Assistant Secretary for Policy and Programs.

[FR Doc. E6-9463 Filed 6-15-06; 8:45 am]

BILLING CODE 4154-01-P